DEPARTMENT OF THE INTERIOR

Fish and Wildlife Service

Notice of Availability of an Environmental Assessment and Receipt of an Application for an Incidental Take Permit for the Oakmont Industrial Group Development, City of Ontario, San Bernardino County, CA

AGENCY: Fish and Wildlife Service, Interior.

ACTION: Notice of availability and receipt of application.

SUMMARY: The Oakmont Industrial Group (Applicant) has applied to the Fish and Wildlife Service (Service) for an incidental take permit pursuant to section 10(a)(1)(B) of the Endangered Species Act (Act) of 1973, as amended. The Service is considering issuing a 5-year permit to the Applicant that would authorize take of the federally endangered Delhi Sands flower-loving fly (Rhaphiomidas terminatus abdominalis; DSF). The proposed permit would authorize the incidental taking of individual DSF. The permit is needed by the Applicant because take of DSF could occur during the proposed construction of a commercial development on a 19-acre site in the City of Ontario, San Bernardino County, California.

The permit application includes the proposed Habitat Conservation Plan (Plan), which describes the proposed action and the measures that the Applicant will undertake to minimize and mitigate the impact of the take of the DSF.

DATES: We must review any written comments on or before January 29, 2007.

ADDRESSES: Send written comments to Mr. Jim Bartel, Field Supervisor, Fish and Wildlife Service, Carlsbad Fish and Wildlife Office, 6010 Hidden Valley Road, Carlsbad, CA 92011. You also may send comments by facsimile to (760) 918-0638. To review the permit application and plan, see “Availability of Documents” under SUPPLEMENTARY INFORMATION.

FOR FURTHER INFORMATION CONTACT: Ms. Karen Goebel, Assistant Field Supervisor (see ADDRESSES), (760) 431-9440.

SUPPLEMENTARY INFORMATION:

Availability of Documents

You may obtain copies of these documents for review by contacting the office under ADDRESSES. Documents also will be available for public inspection, by appointment, during normal business hours at our Carlsbad office (see ADDRESSES) and at the San Bernardino County Libraries. Addresses for the San Bernardino County Libraries are: (1) 13180 Central Avenue, Chino, CA 91710; (2) 2003 Grand Avenue, Chino Hills, CA 91709; (3) 16860 Valencia Avenue, Fontana, CA 92335; and (4) 104 West Fourth Street, San Bernardino, CA 92415.

Background

Section 9 of the Act (16 U.S.C. 1531 et seq.) and Federal regulations prohibit the “take” of fish and wildlife species listed as endangered or threatened. Take of federally listed fish and wildlife is defined under the Act to include “to harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicant is proposing development of commercial facilities on 19 acres of land in the City of Ontario, San Bernardino County, California. The project site is located south of Greystone Drive, north of Brentstone Street, and west of Stanford Avenue. The proposed project site is bordered by existing commercial facilities to the east and west, State Route 60 to the south, and approximately 13 acres of open space to the north. Over the past several years, the site has experienced heavy use by off-highway vehicles.

Approximately 10 acres of the site are considered occupied by the DSF. The Service has determined that the proposed development would result in incidental take of the DSF. No other federally listed species are known to utilize the site.

To mitigate take of DSF on the project site, the Applicant proposes to purchase credits towards conservation in perpetuity of 10 acres of occupied DSF habitat at the Colton Dunes Conservation Bank in eastern San Bernardino Valley. The conservation bank collects fees that fund a management endowment to ensure the permanent management and monitoring of sensitive species and habitats, including the DSF.

The Service's Environmental Assessment considers the environmental consequences of three alternatives, including: (1) The Proposed Project Alternative, which consists of issuance of the incidental take permit and implementation of the Plan; (2) the Alternative Site Layout, which would consist of DSF conservation on the project site and no offsite conservation; and (3) the No Action Alternative, which would result in no impacts to DSF and no conservation.

National Environmental Policy Act

Proposed permit issuance triggers the need for compliance with the National Environmental Policy Act (NEPA). Accordingly, a draft NEPA document has been prepared. The Service is the Lead Agency responsible for compliance under NEPA. As the NEPA lead agency, the Service is providing notice of the availability and is making available for public review the Environmental Assessment.

Public Review

The Service invites the public to review the Plan and Environmental Assessment during a 60-day public comment period (see DATES). Any comments received, including names and addresses, will become part of the official administrative record and may be made available to the public. Our practice is to make comments, including names, home addresses, home phone numbers, and email addresses of respondents, available for public review. Individual respondents may request that we withhold their names and /or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the DSF. We will make our final permit decision no sooner than 60 days after the date of this notice.

Dated: November 23, 2006.
Ken McDermond,
Deputy Manager, California/Nevada Operations Office, Sacramento, California.

[FR Doc. E6-20284 Filed 11-29-06; 8:45 am]

BILLING CODE 4310-55-P